DEPARTMENT OF JUSTICE

Notice of Lodging of Consent Decree Under the Comprehensive Environmental Response, Compensation and Liability Act

In accordance with Departmental Policy, 28 U.S.C. 50.7, notice is hereby given that on November 9, 2007, a proposed Consent Decree in United States v. Groveland Resources Corp., et al., Civil Action No. 07-12120 (PBS) was lodged with the United States District Court for the District of Massachusetts.

In this action the United States sought cost recovery with respect to the Groveland Wells Nos. 1 & 2 Superfund Site in the Town of Groveland, Massachusetts (“the Site”), under the Comprehensive Environmental Response, Compensation and Liability Act (“CERCLA”) against Groveland Resources Corporation and Valley Manufactured Products Company, Inc. (collectively, the “Settling Defendants”). Under the terms of the proposed settlement, the Settling Defendants will pay 100% of the Net Sale or Net Lease Proceeds in the event their Property on the Site is sold or leased to reimburse the United States for costs incurred at the Site. The Settling Defendants shall also impose certain “institutional controls” or dead restrictions on the Site.

The Department of Justice will receive for a period of thirty (30) days from the date of this publication comments relating to the Consent Decree.

Comments should be addressed to the Assistant Attorney General, Environment and Natural Resources Division, and either e-mailed to pubcomment-ees.enrd@usdoj.gov or mailed to P.O. Box 7611, U.S. Department of Justice, Washington, DC 20044-7611, and should refer to United States v. Groveland Resources Corp., (D. Mass.), D.J. Ref. 90-11-2-338/1.

The Consent Decree may be examined at the Office of the United States Attorney, United States Courthouse, One Courthouse Way, Boston, Massachusetts, and at the United States Environmental Protection Agency, Region I, One Congress Street, Suite 1100, Boston, Massachusetts. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Ronald Gluck,
Assistant Chief, Environmental Enforcement Section, Environment and Natural Resources Division.

[FR Doc. 07-5782 Filed 11-21-07; 8:45 am]

BILLING CODE 4410-15-M